DEPARTMENT OF TRANSPORTATION

Federal Aviation Administration

14 CFR Part 39

[Docket No. FAA-2023-0425; Project Identifier MCAI-2022-00980-A; Amendment 39-22458; AD 2023-11-12]

RIN 2120-AA64

Airworthiness Directives; DAHER AEROSPACE (Type Certificate Previously Held by SOCATA) Airplanes

AGENCY: Federal Aviation Administration (FAA), DOT.

ACTION: Final rule.

SUMMARY: The FAA is adopting a new airworthiness directive (AD) for certain DAHER AEROSPACE (type certificate previously held by SOCATA) Model TBM 700 airplanes. This AD was prompted by mandatory continuing airworthiness information (MCAI) issued by the aviation authority of another country to identify and correct an unsafe condition on an aviation product. The MCAI identifies the unsafe condition as interference between the emergency exit trim panel and the upholstery panel, which could result in additional effort required to open the emergency exit door. This AD requires modification of the gripping strap, which maintains the upholstery panel on the emergency exit trim panel. The FAA is issuing this AD to address the unsafe condition on these products.

DATES: This AD is effective July 21, 2023.

The Director of the Federal Register approved the incorporation by reference of a certain publication listed in this AD as of July 21, 2023.

ADDRESSES:

AD Docket: You may examine the AD docket at regulations.gov under Docket No. FAA-2023-0425; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

Material Incorporated by Reference:

• For service information identified in this final rule, contact DAHER AEROSPACE, Customer Support, Airplane Business Unit, Tarbes Cedex 9, France 65921; phone: (833) 826-2273; email: tbmcare@daher.com; website: daher.com.

• You may view this service information at the FAA, Airworthiness Products Section, Operational Safety Branch, 901 Locust, Kansas City, MO 64106. For information on the availability of this material at the FAA, call (817) 222-5110. It is also available at regulations.gov under Docket No. FAA-2023-0425.

FOR FURTHER INFORMATION CONTACT: Fred Guerin, Aviation Safety Engineer, FAA, 1600 Stewart Avenue, Suite 410, Westbury, NY 11590; phone: 206-231-2346; email: fred.guerin@faa.gov.

SUPPLEMENTARY INFORMATION:

Background

The FAA issued a notice of proposed rulemaking (NPRM) to amend 14 CFR part 39 by adding an AD that would apply to certain DAHER AEROSPACE Model TBM 700 airplanes. The NPRM published in the Federal Register on March 8, 2023 (88 FR 14301). The NPRM was prompted by AD 2022-0149, dated July 21, 2022 (referred to after this as “the MCAI”), issued by the European Union Aviation Safety Agency (EASA), which is the Technical Agent for the Member States of the European Union.

The MCAI was prompted by a report that, due to interference between the emergency exit trim panel and the upholstery panel, additional effort may be required to open the emergency exit door. An investigation revealed that the gripping strap, which maintains the upholstery panel on the emergency exit trim panel, is not properly sized. The MCAI requires inserting a temporary revision (TR) into the emergency procedures section of the applicable pilot's operating handbook (POH), informing all flight crews, operating the airplane accordingly, and modifying the gripping strap, at which time the TR can be removed from the POH. The unsafe condition, if not addressed, could lead to failure of the emergency exit door to perform its intended function during an emergency opening, possibly resulting in reduced evacuation capacity from the airplane and injury to occupants.

In the NPRM, the FAA proposed to require modification of the gripping strap, which maintains the upholstery panel on the emergency exit trim panel. The FAA is issuing this AD to address the unsafe condition on these products.

You may examine the MCAI in the AD docket at regulations.gov under Docket No. FAA-2023-0425.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Related Service Information Under 1 CFR Part 51

The FAA reviewed Daher Aerospace Service Bulletin SB 70-304, dated July 2022, which specifies procedures for modifying the gripping strap on the emergency exit trim panel.

This service information is reasonably available because the interested parties have access to it through their normal course of business or by the means identified in ADDRESSES.

Differences Between This AD and the MCAI

The MCAI requires inserting a TR into the emergency procedures section of the applicable POH, informing all flight crews, and thereafter, operating the airplane accordingly until the modification of the gripping strap, at which time the TR can be removed from the POH. This AD requires modifying the gripping strap because FAA regulations mandate compliance with only the operating limitations section of the POH and not the emergency procedures section.

Costs of Compliance

The FAA estimates that this AD affects 841 airplanes of U.S. registry.

The FAA estimates the following costs to comply with this AD:

Estimated Costs
Action | Labor cost | Parts cost | Cost per product | Cost on U.S. operators
Modification of the gripping strap | 1 work-hour × $85 per hour = $85 | $300 | $385 | $323,785

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for Part 39 continues to read as follows:

Authority: 49 U.S.C. 106(g), 40113, 44701.

§ 39.13 [Amended]

2. The FAA amends § 39.13 by adding the following new airworthiness directive:

2023-11-12 DAHER AEROSPACE (Type Certificate Previously Held by SOCATA): Amendment 39-22458; Docket No. FAA-2023-0425; Project Identifier MCAI-2022-00980-A.

(a) Effective Date

This airworthiness directive (AD) is effective July 21, 2023.

(b) Affected ADs

None.

(c) Applicability

This AD applies to DAHER AEROSPACE (type certificate previously held by SOCATA) Model TBM 700 airplanes, serial numbers 434 through 1424 inclusive, except serial numbers 1408 and 1420, certificated in any category.

(d) Subject

Joint Aircraft System Component (JASC) Code 5220, Emergency Exits.

(e) Unsafe Condition

This AD was prompted by mandatory continuing airworthiness information (MCAI) originated by an aviation authority of another country to identify and correct an unsafe condition on an aviation product. The MCAI identifies the unsafe condition as interference between the emergency exit trim panel and the upholstery panel, which could result in additional effort required to open the emergency exit door. The FAA is issuing this AD to address this condition. The unsafe condition, if not addressed, could lead to failure of the emergency exit door to perform its intended function during an emergency opening, resulting in reduced evacuation capacity from the airplane and injury to occupants.

(f) Compliance

Comply with this AD within the compliance times specified, unless already done.

(g) Required Actions

Within 12 months after the effective date of this AD, modify the gripping strap on the emergency exit trim panel by following, as applicable for your serial-numbered airplane, sections A, B, and C in the Description of Accomplishment Instructions in Daher Aerospace Service Bulletin SB 70-304, dated July 2022 (Daher SB 70-304), except where Daher SB 70-304 specifies to discard certain parts, this AD requires removing those parts from service. If the operational check of the emergency exit fails, before further flight, re-modify the gripping strap on the emergency exit trim panel by following, as applicable for your serial-numbered airplane, sections A, B, and C in the Description of Accomplishment Instructions in Daher SB 70-304 until it passes this operational check, except where Daher SB 70-304 specifies to discard certain parts, this AD requires removing those parts from service.

(h) Alternative Methods of Compliance (AMOCs)

The Manager, International Validation Branch, FAA, has the authority to approve AMOCs for this AD, if requested using the procedures found in § 39.19. In accordance with § 39.19, send your request to your principal inspector or local Flight Standards District Office, as appropriate. If sending information directly to the manager of the International Validation Branch, mail it to the address identified in paragraph (i)(2) of this AD or email to: 9-AVS-AIR-730-AMOC@faa.gov. If mailing information, also submit information by email. Before using any approved AMOC, notify your appropriate principal inspector, or lacking a principal inspector, the manager of the local flight standards district office/certificate holding district office.

(i) Additional Information

(1) Refer to European Union Aviation Safety Agency (EASA) AD 2022-0149, dated July 21, 2022, for related information. This EASA AD may be found in the AD docket at regulations.gov under Docket No. FAA-2023-0425.

(2) For more information about this AD, contact Fred Guerin, Aviation Safety Engineer, FAA, 1600 Stewart Avenue, Suite 410, Westbury, NY 11590; phone: 206-231-2346; email: fred.guerin@faa.gov.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Daher Aerospace Service Bulletin SB 70-304, dated July 2022.

(ii) [Reserved]

(3) For service information identified in this AD, contact DAHER AEROSPACE, Customer Support, Airplane Business Unit, Tarbes Cedex 9, France 65921; phone: (833) 826-2273; email: tbmcare@daher.com; website: daher.com.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on June 12, 2023.
Ross Landes,
Deputy Director for Regulatory Operations, Compliance & Airworthiness Division, Aircraft Certification Service.

[FR Doc. 2023-12914 Filed 6-15-23; 8:45 am]

BILLING CODE 4910-13-P